DEPARTMENT OF ENERGY

Federal Energy Regulatory Commission

[Project No. 2309-031]

PSEG Fossil, LLC, Jersey Central Power & Light Company, Yards Creek Energy, LLC; Notice of Application for Partial Transfer of License and Soliciting Comments, Motions To Intervene, and Protests

On March 30, 2020, PSEG Fossil, LLC (PSEG or transferor) and Jersey Central Power & Light Company (JCPL) current co-licensees, and Yards Creek Energy, LLC (YCE or transferee) filed a joint application for a partial transfer of the license for the Yards Creek Pumped Storage Hydroelectric Project No. 2309. The project is located on Yards Creek in Warren County, New Jersey.

The applicants seek Commission approval for a partial transfer of the license for the project to remove PSEG as a co-licensee and to add YCE as co-licensee.

Applicants Contact: For transferor: Cara J. Lewis, Managing Counsel—Federal Regulatory, PSEG Services Corporation, 80 Park Plaza—T5G, Newark, New Jersey 07102, (973) 430-8836, cara.lewis@pseg.com.

For Co-Licensee: Anne M. Rericha, FirstEnergy Service Company, 76 S Maine Street, Akron, Ohio 44308, (330) 374-6550, arericha@firstenergycorp.com.

For Transferee: Kimberly Ognisty, Winston & Strawn LLC, 1901 L Street NW, Washington, DC 20036, (202) 282-5217, kognisty@winston.com.

FERC Contact: Anumzziatta Purchiaroni, (202) 502-6191, Anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. Hand delivered submissions in docketed proceedings should be delivered to Health and Human Services, 12225 Wilkins Avenue, Rockville, Maryland 20852. The first page of any filing should include docket number P-2309-031.

Dated: April 30, 2020.
Kimberly D. Bose,
Secretary.

[FR Doc. 2020-09655 Filed 5-5-20; 8:45 am]

BILLING CODE 6717-01-P